DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications desribed herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before October 21, 2002.

ADDRESSES: Records Center, Research and Special Programs, Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, Pub. L. 401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on September 13, 2002.
R. Ryan Posten,
Exemptions Program Officer, Office of Hazardous Materials Exemptions and Approvals.

Application No. | Docket No. | Applicant | Regulation(s) affected | Nature of exemption thereof
13104-N | RSPA-02-13279 | Consumers Energy Corporation, Charlevoix, MI | 49 CFR 173.403, 173.427 | To authorize the transportation in commerce of a large component of an unpackaged surface contaminated object (SCO) used for transporting Class 7 radioactive materials. (Modes 1, 2)
13105-N | RSPA-02-13278 | T.L.C.C.I, Inc., Nashville, TN | 49 CFR 173.22a, 173.304 | To authorize the manufacture, mark, sale, and use of non-DOT specification cylinders for use in transporting Division 2.1 materials. (modes 1, 2, 3, 4)
13106-N | RSPA-02-13280 | Air Products & Chemicals, Inc., Allentown, PA | 49 CFR 173.301(d)(a)&(2) | To authorize the transportation in commerce of hydrogen and nitrogen gas mixtures in manifolded DOT-Specification cylinders. (modes 1, 3)
13107-N | RSPA-02-13276 | Sensors, Inc., Saline, MI | 49 CFR 172 Subparts C&G | To authorize the transportation in commerce of specially devices containing a DOT Specification 3AL1800 cylinder containing flammable compressed gas utilizing a small hydrogen/helium flame without required shipping papers. (mode 1)
13109-N | RSPA-02-13281 | Canberra Industries, Inc., Meriden, CN | 49 CFR 173.302, 175.3 | To authorize the manufacture, marking, sale and use of non-DOT specification containers described as hermetically-sealed electron tube devices for use in transporting Division 2.2 hazardous mateials. (modes 1, 4, 5)
13110-N | RSPA-02-13282 | Praxair, Inc., Danbury, CT | 49 CFR 173.242 | To authorize the transportation in commerce of non-DOT specification bulk packaging for use in transporting metal, catalyst, dry, Division 4.2. (modes 1, 3)
13111-N | RSPA-02-13284 | Fisher Scientific Chemical Division, Fair Lawn, NJ | 49 CFR 173.158(f)7(h) | To authorize the transportation in commerce of 70% nitric acid, Class 8, in certain single and combination packagings which is currently forbidden. (modes 1, 2, 3, 4)
13112-N | RSPA-02-13286 | Conax Florida Corporation St. Petersburg, FL | 49 CFR 173.302, 175.3 | To authorize the manufacture, mark, sale and use of non-DOT specification non-reusable cylinders conforming with all requlations simiolar to DOT specification 39 cylinder for use in transporting Division 2.2 material. (modes 1, 2, 3, 4, 5)
13114-N | RSPA-02-13303 | Eagle Window & Door, Inc. Dubuque, IA | 49 CFR 172.202-204 | To authorize the transportation in commerce of non-bulk containers of paint to be transported within the facility without required shipping papers. (mode 1)
13116-N | RSPA-02-13306 | Chromatography Research Supplies, Inc., Louisville, KY | 49 CFR 173.151(b) | To authorize the transportation in commerce of gas filters containing limited quantities of hazardous materials classed as self-heating solid, inorganic, n.o.s. to be transported under the limited quantity provisions as Division 4.1 without required labelling or placarding. (modes 1, 4, 5)
13117-N | RSPA-02-13307 | TEN-Packaging Services, Newport, MN | 49 CFR 173.21(i) | To authorize the examination of cigarette lighters and their inner packagings. (mode 1)
13118-N | RSPA-02-13305 | Greif Bros. Corporation, Delaware, OH | 49 CFR 178.503(a)(10) | To authorize the one-time transportation in commerce of UN1A2 drums with alternative markings for use in transporting Division 4.2 hazardous materials. (mode 1)

Correction Notice: The new exemption notice published in the Federal Register/Vol. 67, No. 166, Tuesday, August 27, 2002; page 55061 should have appeared as Docket No. 13088-N; RSPA-2003-13402 applicant Electron Transfer Technologies instead of Air Products.

[FR Doc. 02-23839 Filed 9-18-02; 8:45 am]

BILLING CODE 4910-60-M